FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011876-001.

Title: Seafreight/Crowley Space Charter Agreement.

Parties: Seafreight Line, Ltd. and Crowley Caribbean Services, LLC.

Filing Party: Wayne R. Rohde, Esq.; Cozen O'Conner; 1627 I Street NW., Suite 1100; Washington, DC 20006-4007.

Synopsis: The amendment adds the trade between Jacksonville, provides for reciprocal space chartering, and changes the name of the Crowley entity that is party to the agreement.

Agreement No.: 012091-001.

Title: HLAG/HSDG Slot Charter Agreement.

Parties: Hapag-Lloyd Aktiengesellschaft and Hamburg Sudamerikanische Dampfschifffahrts-Gesellschaft KG.

Filing Party: Wayne R. Rohde, Esq.; Cozen O'Conner; 1627 I Street NW., Suite 1100; Washington, DC 20006-4007.

Synopsis: The amendment would increase the amount of space being chartered under the agreement.

Agreement No.: 012208-002.

Title: Hoegh/Grimaldi Space Charter Agreement.

Parties: Hoegh Autoliners AS; Grimaldi Deep Sea S.p.A.; and Grimaldi Euromed S.p.A. (acting as a single party).

Filing Party: Wayne R. Rohde, Esq.; Cozen O'Connor; 1627 I Street NW.; Suite 1100; Washington, DC 20006.

Synopsis: The Amendment adds Grimaldi Euromed S.p.A. as a party to the agreement.

Agreement No.: 012312-002.

Title: Grimaldi Deep Sea S.p.A./Mitsui O.S.K Lines Ltd. Space Charter Agreement.

Parties: Grimaldi Deep Sea S.p.A. and Grimaldi Euromed S.p.A.; Mitsui O.S.K. Lines Ltd.

Filing Party: Eric. C. Jeffrey, Esq.; Nixon Peabody LLP; 401 9th Street NW., Suite 900; Washington, DC 20004.

Synopsis: The amendment adds Grimaldi Euromed S.p.A. as a party to the agreement, and corrects the spelling of party Mitsui O.S.K. Lines Ltd.

Agreement No.: 012330.

Title: Liberty Global Logistics LLC/Bahri General Cargo Cooperative Working Agreement.

Parties: Liberty Global Logistics LLC and Bahri General Cargo.

Filing Parties: Brenda Shapiro, Esq: Winston& Strawn LLP; 200 Park Avenue; New York, NY; 10166.

Synopsis: The agreement would authorize the parties to purchase space on the vessels operated by one another in the trade between the U.S. East and Gulf Coasts on the one hand, and ports along the Mediterranean Sea, Red Sea, Gulf of Aden, Arabian Sea, Gulf of Oman, and Persian Gulf on the other hand.

Agreement No.: 012331.

Title: Crowley/APL Space Charter Agreement

Parties: APL Co. Pte Ltd and American President Lines, Ltd. (collectively “APL”); and Crowley Latin America Services, LLC.

Filing Party: Eric. C. Jeffrey, Esq.; Nixon Peabody LLP; 401 9th Street NW., Suite 900; Washington, DC 20004.

Synopsis: The agreement authorizes Crowley to charter space to APL in the trade from the U.S. East Coast to Panama.

Agreement No.: 012332.

Title: CMA CGM/HJS Slot Exchange Agreement.

Parties: CMA CGM, S.A.; and Hanjin Shipping Co., Ltd.

Filing Party: Draughn B. Arbona, Esq; CMA CGM (America) LLC; 5701 Lake Wright Drive; Norfolk, VA 23502

Synopsis: The Agreement authorizes the parties to exchange slots in the trade between Vietnam, China, Hong Kong, and Korea, on the one hand, and the U.S. West Coast, on the other hand.

Agreement No.: 012333.

Title: APL/CMA CGM USEC—Middle East Slot Charter Agreement

Parties: American President Lines, Ltd.; and CMA CGM S.A.

Filing Party: Eric. C. Jeffrey, Esq.; Nixon Peabody LLP; 401 9th Street NW., Suite 900; Washington, DC 20004.

Synopsis: The agreement authorizes APL to charter space to CMA CGM in the trade between the U.S. East Coast, on the one hand, and Egypt and the United Arab Emirates, on the other hand.

Agreement No.: 201162-011.

Title: NYSA-ILA Assessment Agreement.

Parties: International Longshoremen's Association and New York Shipping Association.

Filing Parties: Donato Caruso, Esq.; The Lambos Firm, LLP; 303 South Broadway, Suite 410; Tarrytown, NY 10591 and Andre Mazzola, Esq.; Marrinan & Mazzola Mardon, P.C.; 26 Broadway, 17th Floor; New York, NY 10004.

Synopsis: The amendment adds an assessment on loaded waste containers effective March 1, 2015.

By Order of the Federal Maritime Commission.
Dated: May 15, 2015.
Karen V. Gregory,
Secretary.

[FR Doc. 2015-12235 Filed 5-19-15; 8:45 am]

BILLING CODE 6731-AA-P